DEPARTMENT OF COMMERCE

International Trade Administration

[C-122-839]

Certain Softwood Lumber Products From Canada: Notice of Extension of Time Limit for the Preliminary Results of Countervailing Duty New Shipper Review

AGENCY: Import Administration, International Trade Administration, Department of Commerce.

EFFECTIVE DATE: June 6, 2003.

FOR FURTHER INFORMATION CONTACT: Eric Greynolds or Gayle Longest, Office of AD/CVD Enforcement VI, Import Administration, International Trade Administration, U.S. Department of Commerce, 14th Street and Constitution Avenue, N.W., Washington, DC 20230; telephone (202) 482-6071 or 482-3338, respectively.

SUPPLEMENTARY INFORMATION: On December 31, 2002, the Department of Commerce (the Department) initiated a new shipper review relating to the countervailing duty order on certain softwood lumber products from Canada, covering the period January 1, 2002 through December 31, 2002. See Certain Softwood Lumber From Canada: Notice of Initiation of Antidumping Duty New Shipper Review for the Period May 22, 2002, Through October 31, 2002; Notice of Initiation of Countervailing Duty New Shipper Review for the Period January 1, 2002, Through December 31, 2002; and Rescission of Countervailing Duty Expedited Review, January 8, 2003 (68 FR 1030). The respondent in this new shipper review is Scierie Lapointe & Roy Ltee (Lapointe & Roy). The current deadline for the preliminary results of this review is June 30, 2003. Section 751(a)(2)(B)(iv) of the Tariff Act of 1930, as amended (the Act), requires the Department to make a preliminary determination within 180 days after the date on which the new shipper review was initiated. However, when the Department determines a case is extraordinarily complicated such that it cannot complete the review within this time period, section 751(a)(2)(B)(iv) of the Act allows the Department to extend the time limit for the preliminary determination from 180 days to a maximum of 300 days.

Pursuant to section 751(a)(2)(B)(iv) of the Act, the Department has determined that this case is extraordinarily complicated given the number of programs and the complexity of the calculations used to derive the benefit from these programs. See Decision Memorandum from Melissa G. Skinner, Director, Office of AD/CVD Enforcement VI, to Holly A. Kuga, Acting Deputy Assistant Secretary, dated concurrently with this notice, which is on file in the Central Records Unit, Room B-099 of the main Commerce building. Thus, in accordance with the statutory and regulatory authority cited above, the Department is extending the deadline for issuing the preliminary results of this new shipper review by 120 days to no later than October 27, 2003. We plan to issue the final results within 90 days after the date the preliminary results are issued.

This extension is in accordance with section 751(a)(2)(B)(iv) of the Act.

Dated: May 28, 2003.
Holly A. Kuga,
Acting Deputy Assistant Secretary Import Administration, Group II.

[FR Doc. 03-14344 Filed 6-5-03; 8:45 am]

BILLING CODE 3510-DS-S